DEPARTMENT OF ENERGY

Federal Energy Regulatory Commission

[Project No. 14799-001]

Lock 13 Hydro Partners, LLC; Notice Soliciting Scoping Comments

a. Type Filing: Notice of Intent to File License Application and Pre-Application Document for an Original Major License.

b. Project No.: P-14799-001.

c. Date Filed: September 7, 2017.

d. Applicant: Lock 13 Hydro Partners, LLC.

e. Name of Project: Evelyn Hydroelectric Project.

f. Location: On the Kentucky River, in Lee and Estill Counties, Kentucky. The project would be located at the Commonwealth of Kentucky's existing Lock and Dam No. 13. No federal land would be occupied by the project works or located within the project boundary.

g. Filed Pursuant to: Federal Power Act 16 U.S.C. 791(a)-825(r).

h. Applicant Contact: David Brown Kinloch, Lock 13 Hydro Partners, LLC, 414 S. Wenzel Street, Louisville, KY 40204; (502) 589-0975; email—kyhydropower@gmail.com.

i. FERC Contact: Sarah Salazar, (202) 502-6863 or sarah.salazar@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Deadline for Filing Scoping Comments: February 8, 2018.

l. With this notice, we are soliciting comments on Commission staff's Scoping Document 1 (SD1). All comments on the SD1 should be sent to the address above in paragraph h. In addition, all comments on SD1, requests for cooperating agency status, and all communications to and from Commission staff related to the merits of the potential application must be filed with the Commission. Documents may be filed electronically via the internet. See 18 CFR 385.2001(a)(1)(iii) and the instructions on the Commission's website http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE, Washington, DC 20426.

All filings with the Commission must include on the first page, the project name (Evelyn Hydroelectric Project and number (P-14799-001), and bear the appropriate heading: Comments on Scoping Document 1, Request for Cooperating Agency Status, or Communications to and from Commission Staff. Any individual or entity interested in commenting on the SD1 must do so by February 8, 2018.

m. A copy of the Pre-Application Document is available for review at the Commission in the Public Reference Room, or may be viewed on the Commission's website (http://www.ferc.gov) using the eLibrary link. Enter the docket number, excluding the last three digits in the docket number field, to access the document. For assistance, contact FERC Online Support at FERCONlineSupport@ferc.gov, or toll free at 1-866-208-3676, or for TTY, (202) 502-8659. A copy is also available for inspection and reproduction at the address in paragraph h.

Register online at http://www.ferc.gov/docs-filing/esubscription.asp to be notified via email of new filings and issuances related to this or other pending projects. For assistance, contact FERC Online Support.

n. Scoping Process: The Commission staff intends to prepare a single Environmental Assessment (EA) for the Evelyn Hydroelectric Project in accordance with the National Environmental Policy Act. The EA will consider both site-specific and cumulative environmental impacts and reasonable alternatives to the proposed action.

Commission staff does not propose to conduct any on-site scoping meetings at this time. Instead, we are soliciting comments, recommendations, and information, on the SD1 issued on January 9, 2018.

Copies of the SD1 outlining the subject areas to be addressed in the EA were distributed to the parties on the Commission's mailing list and the applicant's distribution list. Copies of the SD1 may be viewed on the web at http://www.ferc.gov using the eLibrary link. Enter the docket number excluding the last three digits in the docket number field to access the document. For assistance, call 1-866-208-3676 or for TTY, (202) 502-8659.

Dated: January 9, 2018.
Kimberly D. Bose,
Secretary.

[FR Doc. 2018-00754 Filed 1-17-18; 8:45 am]

BILLING CODE 6717-01-P